DEPARTMENT OF TRANSPORTATION

Federal Aviation Administration

14 CFR Part 129

Operations: Foreign Air Carriers and Foreign Operators of U.S.-Registered Aircraft Engaged in Common Carriage; Correcting Amendment

AGENCY: Federal Aviation Administration (FAA), DOT.

ACTION: Final rule; technical amendment.

SUMMARY: This action corrects a typographical error that appeared in the final rule, Foreign Air Carriers and Operators of Certain Large U.S.-Registered Airplanes, which the FAA published in the Federal Register on May 28, 1987. In that final rule, the FAA inadvertently misstated the word “markings” as “marketing.” The intent of this action is to correct the error in the regulations to ensure the requirement is clear and accurate.

EFFECTIVE DATES: Effective on February 20, 2007.

FOR FURTHER INFORMATION CONTACT: Kim Barnette, Aircraft Maintenance Division, Flight Standards Service, Federal Aviation Administration, 800 Independence Avenue, SW., Washington, DC 20591. Telephone: (202-493-4922); facsimile: (202-267-5115); e-mail: kim.a.barnette@faa.gov.

SUPPLEMENTARY INFORMATION: On May 28, 1987, the FAA published in the Federal Register (52 FR 20026) a final rule that amended § 129.11, among other changes, by adding a new paragraph (a)(4). In adding the new paragraph, the word “marketings” instead of “markings” was inadvertently used. This document corrects § 129.11(a)(4) to include the correct word. This correction will not impose any additional requirements on the affected operators.

Technical Amendment

This technical amendment will make a minor editorial correction to § 129.11(a)(4).

List of Subjects in 14 CFR Part 129

Air carriers, Aircraft, Aviation safety, Reporting and recordkeeping requirements, Security measures, Smoking.

For the reasons set forth above, the Federal Aviation Administration correctly amends 14 CFR part 129 as follows:

PART 129—OPERATIONS: FOREIGN AIR CARRIERS AND FOREIGN OPERATORS OF U.S.-REGISTERED AIRCRAFT ENGAGED IN COMMON CARRIAGE

1. The authority citation for part 129 continues to read as follows:

Authority: 49 U.S.C. 1372, 40113, 40119, 44101, 44701-44702, 44705, 44709-44711, 44713, 44716-44717, 44722, 44901-44904, 44906, 44912, 46105, Pub. L. 107-71 sec. 104.

2. Amend § 129.11 by revising paragraph (a)(4) to read as follows:

§ 129.11 Operations specifications.

(a) * * *

(4) Registration markings of each U.S.-registered aircraft.

* * * * *

Issued in Washington, DC, on February 12, 2007.
Pamela Hamilton-Powell,
Director, Office of Rulemaking, Aviation Safety.

[FR Doc. 07-741 Filed 2-16-07; 8:45 am]

BILLING CODE 4910-13-M